DEPARTMENT OF COMMERCE

National Oceanic and Atmospheric Administration

Changes in Nautical Chart Catalog Format

AGENCY: National Ocean Service, National Oceanic and Atmospheric Administration (NOAA), Commerce.

ACTION: Request for comments.

SUMMARY: The Office of Coast Survey is transitioning its nautical products to a wide range of digital formats and web mapping services to enable more frequent updating and allow easier uptake by users. With the end of lithographic printing of NOAA paper nautical charts in April 2014, we also stopped production of the five printed nautical chart catalogs which are created in the large paper format (35 inches by 55 inches). We have now transformed the chart catalogs into letter-sized documents that users can print at home. Downloads of the “print-at-home” chart catalog in PDF format are free from the Coast Survey Web site. An interactive chart catalog is also available on the Coast Survey Web site (nauticalcharts.noaa.gov) for users who prefer to point, click, and download their charts from online.

Coast Survey will consider making the front page of the large-format chart catalog. (We consider the reverse side, which lists chart agents, as obsolete and will not continue it.) Before making the decision, Coast Survey wants to know if demand remains for the large-format chart catalogs, and if users are willing to purchase these from commercial providers, such as NOAA-certified printing companies.

Coast Survey invites written comments about: (1) Maintaining the large-format paper catalog (with no reverse side) if they are available for purchase from commercial provider; (2) the new free “print-at-home” PDF chart catalog; and (3) the online interactive chart catalog on the homepage of the nauticalcharts.noaa.gov Web site.

DATES: Written, faxed, or emailed comments are due by midnight, April 30, 2015.

ADDRESSES: Email comments to frank.powers@noaa.gov, or fax to 301-713-9312. Written comments may be mailed to Frank Powers, Office of Coast Survey, 1315 East-West Highway, #6254, Silver Spring MD 20906.

FOR FURTHER INFORMATION CONTACT: Frank Powers, telephone 301-713-2750, ext. 173; email: frank.powers@noaa.gov.

SUPPLEMENTARY INFORMATION:

1. Background

Until April 2014, the Federal Aviation Administration had printed NOAA's nautical chart catalogs on oversized paper sheets (35 inches by 55 inches), folded them, and made them available to the public for free. Since the printing was done in bulk, and stored prior to distribution, the information on the reverse side of the catalogs was often out-of-date by the time catalogs reached customers. When the FAA ceased printing NOAA nautical charts in April, they also stopped printing the catalogs. Since then, NOAA's Office of Coast Survey has privatized paper chart production by expanding the number of chart printing agents through the NOAA “print-on-demand” program. Questions remain on whether to transition the catalogs to a similar “print-on-demand” system where customers would pay for the catalogs.

2. Current Status of the Chart Catalogs

Coast Survey now makes letter-sized “print-at-home” PDF chart catalogs available for download, free, at www.nauticalcharts.noaa.gov/catalog. Produced with digital technology, the catalogs are easy-to-see, easy-to-use, easy-to-print, and are updated as changes occur. The new format has a higher resolution and more geographic names than the large-format catalog, and heavily trafficked waterways covered by multiple charts have their own dedicated pages.

If users prefer a Web-based search for charts, they can use the interactive catalog that Coast Survey established in early 2014. The interactive catalog is at www.charts.noaa.gov/InteractiveCatalog/nrnc.shtml, or it can be accessed from the Coast Survey home page at nauticalcharts.noaa.gov.

Coast Survey has stopped updating and producing the large-format chart catalogs since the federal government is no longer printing them. We will archive the latest versions in Coast Survey's Historical Map & Chart Collection (nauticalcharts.noaa.gov/history). We could re-start the updating process if there is a market demand and if commercial printing firms decided to carry the catalogs as for-sale products. The updated chart catalogs would only have the front side showing the areas covered by the catalog, with chart outlines and their corresponding chart numbers. They would not show anything on the reverse side. (The Coast Survey Web site nauticalcharts.noaa.gov/staff/print_agents.html now carries regularly updated information about NOAA-certified chart printers.)

3. Public Comments

The director of NOAA's Office of Coast Survey invites interested parties to submit comments to assist Coast Survey as it decides whether to maintain the one-sided large-format (35 inch by 55 inch) chart catalogs that could be made available for purchase from commercial providers, subject to their decision about whether to carry the product. Comments about the new letter-sized PDF catalogs and the interactive Web catalog are also welcome.

Authority: 33 U.S.C. Chapter 17, Coast and Geodetic Survey Act of 1947.

Dated: November 14, 2014.
Rear Admiral Gerd Glang,
Director, Office of Coast Survey, National Ocean Service, National Oceanic and Atmospheric Administration.

[FR Doc. 2014-28091 Filed 11-26-14; 8:45 am]

BILLING CODE 3510-JE-P